DEPARTMENT OF ENERGY

Federal Energy Regulatory Commission

[Project No. 3131-032]

SR Hydropower, Inc., SR Hydropower of Brockway Mills, Inc.; Notice of Dismissing Application To Surrender Project License

March 23, 2000.

On August 16, 1996, John M. Rais filed an application to surrender the project license for the Brockways Mills Project No. 3131 on the Williams River in Windham County, in the Town of Rockingham, Vermont, purportedly on behalf of SR Hydropower of Brockway Mills, Inc., along with a copy of a certificate of dissolution of that corporation, issued by the State of Vermont on July 10, 1996.

On March 15, 1999, the Commission issued an interim order in the surrender proceeding, noting Rais's assertion that SR Hydropower of Brockway Mills, Inc., a Vermont corporation, was incorporated by a statutory merger with SR Hydropower, Inc., a New Hampshire corporation, the licensee of record for this project. However, the Commission noted that it had never approved a transfer of the license to SR Hydropower of Brockway Mills, Inc., or a name change of the licensee. Furthermore, the Commission concluded that, as a consequence of the dissolution of SR Hydropower of Brockway Mills, Inc., into which SR Hydropower, Inc. was merged, neither SR Hydropower, Inc., which remains the licensee of record, nor SR Hydropower of Brockway Mills, Inc., any longer existed. Under these circumstances, the Commission concluded that the surrender of the project license was by implication rather than upon application of the licensee. The Commission stated that, at the request of the Town of Rockingham, it would defer acceptance of the surrender for at least six months, and entertain applications from any proposed transferee to transfer the license to such applicant.¹

¹ 86 FERC ¶ 61,279 (1999)

On September 20, 1999, Christopher J. Kruger and Eileen J. Kruger filed an application seeking the transfer of the project license to themselves, and on December 14, 1999, the transfer application was approved by the Chief, Engineering and Compliance Branch of the Office of Hydropower Licensing.² Under these circumstances, the application to surrender filed by John M. Rais has become moot and is accordingly dismissed.

² 89 FERC ¶ 92,194. On October 28, 1999, Rais, as an agent for SR Hydropower of Brockway Mills, Inc., filed a motion to withdraw the surrender of license, which was rejected by the Secretary of the Commission (notice issued November 12, 1999) on the basis of the Commission's findings in its March 15, 1999 order.

This notice constitutes final agency action. Requests for rehearing by the Commission of this rejection notice may be filed within 30 days of the date of issuance of this notice, pursuant to 18 CFR 385.713.

Linwood A. Watson, Jr.,
Acting Secretary.

[FR Doc. 00-7673 Filed 3-28-00; 8:45 am]

BILLING CODE 6717-01-M